FEDERAL COMMUNICATIONS COMMISSION

47 CFR Part 73

Radio Broadcasting Services; Various Locations

AGENCY: Federal Communications Commission.

ACTION: Final rule.

SUMMARY: The Commission, on its own motion, editorially amends the Table of FM Allotments to specify the actual classes of channels allotted to various communities. The changes in channel classifications have been authorized in response to applications filed by licensees and permittees operating on these channels. This action is taken pursuant to Revision of Section 73.3573(a)(1) of the Commission's Rules Concerning the Lower Classification of an FM Allotment, 4 FCC Rcd 2413 (1989), and the Amendment of the Commission's Rules to permit FM Channel and Class Modifications [Upgrades] by Applications, 8 FCC Rcd 4735 (1993).

EFFECTIVE DATES: April 24, 2001.

FOR FURTHER INFORMATION CONTACT: Kathleen Scheuerle, Mass Media Bureau, (202) 418-2180.

SUPPLEMENTARY INFORMATION: This is a summary of the Commission's Report and Order, adopted March 21, 2001, and released March 30, 2001. The full text of this Commission decision is available for inspection and copying during normal business hours in the Commission's Reference Center, 445 12th Street, SW, Washington, D.C. The complete text of this decision may also be purchased from the Commission's copy contractors, International Transcription Service, Inc., 1231 20th Street, NW., Washington, DC 20036, (202) 857-3800, facsimile (202) 857-3805.

List of Subjects in 47 CFR Part 73

Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under Florida, is amended by removing Channel 289A and adding Channel 289C3 at Baldwin.

3. Section 73.202(b), the Table of FM Allotments under Hawaii, is amended by removing Channel 224A and adding Channel 224C3 at Hilo.

4. Section 73.202(b), the Table of FM Allotments under Idaho, is amended by removing Channel 232C3 and adding Channel 232C2 at Rexburg.

5. Section 73.202(b), the Table of FM Allotments under Minnesota, is amended by removing Channel 291C2 and adding Channel 291C3 at Elk River and by removing Channel 227C and adding Channel 227C1 at Nisswa.

6. Section 73.202(b), the Table of FM Allotments under Missouri, is amended by removing Channel 286C1 and adding Channel 288C1 at St. Joseph.

7. Section 73.202(b), the Table of FM Allotments under Montana, is amended by removing Channel 263C1 and adding Channel 263C3 at Baker, by removing Channel 298C and adding Channel 298C1 at Billings, and by removing Channel 250C and adding Channel 250C1 at Dutton.

8. Section 73.202(b), the Table of FM Allotments under Nevada, is amended by removing Channel 248C1 and adding Channel 248C at Mesquite.

9. Section 73.202(b), the Table of FM Allotments under New Hampshire, is amended by removing Channel 252A and adding Channel 252C3 at Laconia.

10. Section 73.202(b), the Table of FM Allotments under New York, is amended by removing Channel 241A and adding Channel 241C3 at Norwood.

11. Section 73.202(b), the Table of FM Allotments under Oklahoma, is amended by removing Channel 288C2 and adding Channel 288C3 at Coalgate and by removing Channel 292A and adding Channel 292C3 at Durant.

12. Section 73.202(b), the Table of FM Allotments under Oregon, is amended by removing Channel 281C1 and adding Channel 281C2 at Sisters.

13. Section 73.202(b), the Table of FM Allotments under Tennessee, is amended by removing Channel 255C and adding Channel 255C1 at Munford.

14. Section 73.202(b), the Table of FM Allotments under Texas, is amended by removing Channel 228C3 and adding Channel 228A at Greenville, by removing Channel 268C2 and adding Channel 268C1 at Snyder, and by removing Channel 223A and adding Channel 223C3 at Wake Village.

15. Section 73.202(b), the Table of FM Allotments under Vermont, is amended by removing Channel 265C2 and adding Channel 265C3 at Berlin.¹

¹ Station WGTK was modified in MM Docket No. 98-72 by substituting Channel 265C2 for Channel 265A. The license was further modified by granting a request to reallot Channel 265C2 from Middlebury, Vermont, to Berlin, Vermont, as the new community of license. See 65 FR 3150, January 20, 2000.

16. Section 73.202(b), the Table of FM Allotments under Wyoming, is amended by removing Channel 244A and adding Channel 244C3 at Laramie and by removing Channel 300A and adding Channel 299C at Midwest.

Federal Communications Commission.
John A. Karousos,
Chief, Allocations Branch, Policy and Rules Division, Mass Media Bureau.

[FR Doc. 01-10159 Filed 4-23-01; 8:45 am]

BILLING CODE 6712-01-P